DEPARTMENT OF TRANSPORTATION

Federal Motor Carrier Safety Administration

[Docket No. FMCSA-2012-0105

Qualification of Drivers; Exemption Applications; Vision

AGENCY: Federal Motor Carrier Safety Administration (FMCSA), DOT.

ACTION: Notice of applications for exemptions; request for comments.

SUMMARY: FMCSA announces receipt of applications from 7 individuals for exemption from the vision requirement in the Federal Motor Carrier Safety Regulations. If granted, the exemptions would enable these individuals to qualify as drivers of commercial motor vehicles (CMVs) in interstate commerce without meeting the Federal vision requirement.

DATES: Comments must be received on or before June 11, 2012.

ADDRESSES: You may submit comments bearing the Federal Docket Management System (FDMS) Docket No. FMCSA-2012-0105 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief,

Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 7 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Charles S. Amyx, Jr.

Mr. Amyx, age 46, had an enucleation of his right eye due to a traumatic incident that occurred at age 15. The best corrected visual acuity in his left eye is 20/15. Following an examination in 2011, his ophthalmologist noted, “I feel that he would be a safe driver with a CDL and I do not feel that his driving ability would be compromised by the lack of a normally functioniong right eye.” Mr. Amyx reported that he has driven tractor-trailer combinations for 24 years, accumulating 1.8 million miles. He holds a Class A Commercial Driver's License (CDL) from Louisiana. His driving record for the last 3 years shows no crashes and no convictions for moving violations in a CMV.

Giovanni B. Cerino, Jr.

Mr. Cerino, 50, has had amblyopia in his right eye since childhood. The best corrected visual acuity in his right eye is 20/400, and in his left eye, 20/20. Following an examination in 2011, his ophthalmologist noted, “His exam proves that he has sufficient vision to perform the driving tasks required to operate a commercial vehicle.” Mr. Cerino reported that he has driven tractor-trailer combinations for 26 years, accumulating 4.1 million miles. He holds a Class A CDL from Florida. His driving record for the last 3 years shows no crashes and no convictions for moving violations in a CMV.

Randall L. Mathis

Mr. Mathis, 40, has had amblyopia in his right eye since birth. The best corrected visual acuity in his right eye is 20/80, and in his left eye, 20/20. Following an examination in 2012, his optometrist noted, “It is my opinion that this should not affect his ability to drive safely a commercial vehicle under any driving conditions.” Mr. Mathis reported that he has driven tractor-trailer combinations for 14 years, accumulating 1.3 million miles. He holds a Class A Commercial Driver's License (CDL) from Alabama. His driving record for the last 3 years shows no crashes and no convictions for

Shane N. Maul

Mr. Maul, 31, has had amblyopia in his right eye since childhood. The best corrected visual acuity in his right eye is 20/80, and in his left eye, 20/20. Following an examination in 2012, his optometrist noted, “In my opinion, Mr. Maul has sufficient vision to perform the driving tasks required to operate a commercial vehicle.” Mr. Maul reported that he has driven straight trucks for 1 year, accumulating 40,000 miles and tractor-trailer combinations for 10 years, accumulating 1 million miles. He holds a Class A CDL from Indiana. His driving record for the last 3 years shows no crashes and no convictions for moving violations in a CMV.

Michael E. McAfee

Mr. McAfee, 28, has congenital eye disease including cataract and amblyopia in his left eye. The best corrected visual acuity in his right eye is 20/15, and in his left eye, count-finger vision. Following an examination in 2012, his optometrist noted, “It is my opinion that this gentleman has sufficient vision to perform the driving tasks required for a commercial Class A vehicle.” Mr. McAfee reported that he has driven straight trucks for 10 years, accumulating 50,000 miles. He holds a Class D operator's license from Kentucky. His driving record for the last 3 years shows no crashes and no convictions for moving violations in a CMV.

Dennis D. Pimley

Mr. Pimley, 65, has had a retinal detachment in his left eye since 10 years ago. The best corrected visual acuity in his right eye is 20/200, and in his left eye, 20/20. Following an examination in 2011, his optometrist noted, “In my medical opinion, Mr. Pimely has sufficient vision to perform the driving tasks required to operate a commercial vehicle.” Mr. Pimley reported that he has driven straight trucks for 43 years, accumulating 1.8 million miles and tractor-trailer combinations for 22 years, accumulating 1.7 million miles. He holds a Class A CDL from California. His driving record for the last 3 years shows no crashes and no convictions for moving violations in a CMV.

James E. Sikkink

Mr. Sikkink, 45, has had amblyopia in his right eye since birth. The best corrected visual acuity in his right eye is 20/400, and in his left eye, 20/20. Following an examination in 2012, his optometrist noted, “In my medical opinion he has sufficient vision to perform the driving tasks required to operate a commercial vehicle.” Mr. Sikkink reported that he has driven straight trucks for 14 years, accumulating 436,800 miles. He holds a Class B CDL from Illinois. His driving record for the last 3 years shows no crashes and no convictions for moving violations in a CMV.

Request for Comments

In accordance with 49 U.S.C. 31136(e) and 31315, FMCSA requests public comment from all interested persons on the exemption petitions described in this notice. The Agency will consider all comments received before the close of business June 11, 2012. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: May 3, 2012.
Larry W. Minor,
Associate Administrator for Policy.

[FR Doc. 2012-11439 Filed 5-10-12; 8:45 am]

BILLING CODE 4910-EX-P